DEPARTMENT OF COMMERCE

National Oceanic and Atmospheric Administration

Agency Information Collection Activities; Submission to the Office of Management and Budget (OMB) for Review and Approval; Comment Request; Pacific Islands Permit Family of Forms

The Department of Commerce will submit the following information collection request to the Office of Management and Budget (OMB) for review and clearance in accordance with the Paperwork Reduction Act of 1995, on or after the date of publication of this notice. We invite the general public and other Federal agencies to comment on proposed and continuing information collections, which help us assess the impact of our information collection requirements and minimize the public's reporting burden. Public comments were previously requested via the Federal Register on September 14, 2020, during a 60-day comment period. This notice allows for an additional 30 days for public comments.

Agency: NOAA National Marine Fisheries Service.

Title: Pacific Islands Permit Family of Forms.

OMB Control Number: 0648-0490.

Form Number(s): None.

Type of Request: Regular submission (revision of a currently approved collection).

Number of Respondents: 246.

Average Hours per Response:

• 15 minutes for Hawaii longline limited entry renewal online, 30 minutes for Hawaii longline limited entry renewal by emailed document submission.

• 1 hour for Hawaii longline limited entry permit transfer document.

• 30 minutes for Western Pacific (WP) general longline, WP receiving vessel, PRIA troll and handline, WP bottomfish, pelagic squid jig, crustacean, and WP precious coral applications.

• 45 minutes for American Samoa longline limited entry vessel registration.

• 75 minutes for American Samoa longline limited entry permit transfer, renewal, or additional permit applications.

• 2 hours for permit appeal or longline prohibited area exemption.

Total Annual Burden Hours: 135.

Needs and Uses: All vessel owners or permit holders fishing with specified gear in the federally managed fisheries covered by this information collection in the U.S. Exclusive Economic Zone around Hawaii, American Samoa, Guam, Northern Mariana Islands, and Pacific Remote Island Areas must have the permits and register their vessels to the permits. Each vessel that lands catch in these islands must be registered to a permit. NMFS, the Western Pacific Fishery Management Council, and Federal enforcement agencies use the information to monitor and manage the fisheries.

Affected Public: Individuals or households; Business or other for-profit organizations.

Frequency: As required.

Respondent's Obligation: Voluntary for open access permits; Required to Obtain or Retain Benefits for limited entry permits.

Legal Authority: 50 CFR 665.

This information collection request may be viewed at https://www.reginfo.gov/public/do/PRAMain. Follow the instructions to view the Department of Commerce collections currently under review by OMB.

Written comments and recommendations for the proposed information collection should be submitted within 30 days of the publication of this notice on the following website https://www.reginfo.gov/public/do/PRAMain. Find this particular information collection by selecting “Currently under 30-day Review—Open for Public Comments” or by using the search function and entering the title of the collection or OMB Control Number 0648-0490.

Sheleen Dumas,
Department PRA Clearance Officer, Office of the Chief Information Officer, Commerce Department.

[FR Doc. 2021-00555 Filed 1-12-21; 8:45 am]

BILLING CODE 3510-22-P